DEPARTMENT OF HEALTH AND HUMAN SERVICES

Centers for Disease Control and Prevention

Citizens Advisory Committee on Public Health Service Activities and Research at Department of Energy (DOE) Sites: Savannah River Site Health Effects Subcommittee (SRSHES): Cancellation of Meeting

This notice announces the cancellation of a previously announced meeting.

Federal Notice Citation of Previous Announcement: March 11, 2004 (Volume 69, Number 48) [Notices] [Page 11635]

From the Federal Register Online via GPO Access.

Previously Announced Time and Date: 8 a.m.-3:30 p.m., April 6, 2004.

Place: Adam's Mark Hotel Columbia, 1200 Hampton Street, Columbia, South Carolina 29201.

Change in the Meeting: This meeting has been canceled.

FOR FURTHER INFORMATION CONTACT: Phillip Green, Executive Secretary, SRSHES, Radiation Studies Branch, Division of Environmental Hazards and Health Effects, National Center for Environmental Health, CDC, 1600 Clifton Road, NE. (E-39), Atlanta, Georgia 30333, telephone (404) 498-1800, fax (404) 498-1811.

The Director, Management Analysis and Services Office, has been delegated the authority to sign Federal Register notices pertaining to announcements of meetings and other committee management activities for both CDC and ATSDR.

Dated: March 23, 2004.
Joseph E. Salter,
Acting Director, Management Analysis and Services Office, Centers for Disease Control and Prevention.

[FR Doc. 04-7022 Filed 3-29-04; 8:45 am]

BILLING CODE 4163-18-P